DEPARTMENT OF STATE

[Public Notice 7840]

30-Day Notice of Proposed Information Collection: Form DS-3097, Exchange Visitor Program Annual Report, OMB Control Number 1405-0151

ACTION: Notice of request for public comment and submission to OMB of proposed collection of information.

SUMMARY: The Department of State has submitted the following information collection request to the Office of Management and Budget (OMB) for approval in accordance with the Paperwork Reduction Act of 1995.

• Title of Information Collection: Exchange Visitor Program Annual Report.

• OMB Control Number: 1405-0151.

• Type of Request: Extension of a Currently Approved Collection.

• Originating Office: Educational and Cultural Affairs, Office of Designation, ECA/EC/D/PS.

• Form Number: Form DS-3097.

• Respondents: designated J-1 program sponsors.

• Estimated Number of Respondents: 1435.

• Estimated Number of Responses: 1435 annually.

• Average Hours per Response: 2 hours.

• Total Estimated Burden: 2870 hours.

• Frequency: Annually.

• Obligation to Respond: Mandatory.

DATES: Submit comments to the Office of Management and Budget (OMB) for up to 30 days from April 5, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Robin J. Lerner, Deputy Assistant Secretary for Private Sector Exchange, Department of State, SA-5, Floor 5, 2200 C Street NW., Washington, DC 20522-0505, who may be reached on (202) 632-2805, fax at 202-632-2701 or email at JExchanges@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

Annual reports from designated program sponsors assist the Department in oversight and administration of the J-1 visa program. The reports provide statistical data on the number of exchange participants an organization sponsored per category of exchange. The reports also provide a summary of the activities in which exchange visitors were engaged and an evaluation of program effectiveness. Program sponsors include government agencies, academic institutions, and private sector not-for-profit and for-profit entities.

Methodology

Annual reports are completed through the Student and Exchange Visitor Information System (SEVIS) and then printed and signed by a sponsor official, and sent to the Department by mail or fax. The Department is currently working with the Department of Homeland Security to expand SEVIS functions and enable the collection of electronic signatures. Annual reports will be submitted to the Department electronically as soon as the mechanism for doing so is approved and in place during the implementation of SEVIS II.

Dated: March 26, 2012.
Robin J. Lerner,
Deputy Assistant Secretary for Private Sector Exchange, Bureau of Educational and Cultural Affairs, U.S. Department of State.

[FR Doc. 2012-8238 Filed 4-4-12; 8:45 am]

BILLING CODE 4710-05-P